COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds a product and services to the Procurement List that will be furnished by nonprofit agencies employing persons who are blind or have other severe disabilities, and deletes a product and service from the Procurement List previously furnished by such agencies.

DATES: Effective Date: 2/21/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 9/10/2010 (75 FR 55309-55310); 11/15/2010 (75 FR 69639-69640); and 11/19/2010 (75 FR 70909-70910), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and/or service(s) to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

NSN: 7350-00-838-3919—Toothpicks.

NPA: Volunteers of America, Dakotas, Sioux Falls, SD.

Contracting Activity: General Services Administration, Ft. Worth, TX

Coverage: B-List for the Broad Government Requirement as aggregated by the General Services Administration.

Services

Service Type/Location: Janitorial Service, Customs and Border Protection, Riverside Air and Marine Branch, 373 Graeber Street, March ARB, CA.

NPA: ARC Riverside, Riverside, CA.

Contracting Activity: Dept of Homeland Security, Bureau of Customs and Border Protection, Washington, DC.

Service Type/Location: Base Supply Center, Federal Energy Regulatory Commission, 888 First Street, NE., Washington, DC.

NPA: Winston-Salem Industries for the Blind, Winston-Salem, NC.

Contracting Activity: Federal Energy Regulatory Commission, Division of Procurement, Washington, DC.

Service Type/Location: Custodial Service, Isle Royale National Park & Ranger III Vessel (adjacent to the Headquarter Buildings), 800 East Lakeshore Drive, Houghton, MI.

NPA: Goodwill Industries of Northern Wisconsin & Upper Michigan, Inc., Marinette, WI Contracting Activity: Dept of the Interior, National Park Service, Midwest Region, Omaha, NE.

Deletions

On 10/22/2010 (FR 65305) and 11/19/2010 (75 FR 70909-70910), the Committee for Purchase From People Who Are Blind or Severely Disabled published notices of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

NSN: 6230-01-513-3267—Flashlight, Aluminum, 3D, Black.

NSN: 6230-01-513-3284—Flashlight, Aluminum, 4D, Black.

NSN: 6230-01-513-3286—Flashlight, Aluminum, 5D, Black.

NPA: Central Association for the Blind & Visually Impaired, Utica, NY.

Contracting Activity: General Services Administration, Fort Worth, TX.

Dispenser, Glue Tape & Refill Cartridge

NSN: 8040-01-441-0169.

NSN: 8040-01-441-0173.

NSN: 8040-01-441-0175.

NSN: 8040-01-441-0178.

NPA: Industries for the Blind, Inc., West Allis, WI.

Contracting Activities: General Services Administration Regional Fleet Management Office, Kansas City, MO. General Services Administration Tools Acquisition Division II, Kansas City, MO.

Patricia Briscoe,
Deputy Director, Business Operations.

[FR Doc. 2011-1230 Filed 1-20-11; 8:45 am]

BILLING CODE 6353-01-P